DEPARTMENT OF THE INTERIOR

National Park Service

National Register of Historic Places; Notification of Pending Nominations

Nominations for the following properties being considered for listing in the National Register were received by the National Park Service before May 25, 2002. Pursuant to section 60.13 of 36 CFR part 60 written comments concerning the significance of these properties under the National Register criteria for evaluation may be forwarded by United States Postal Service, to the National Register Historic Places, National Park Service, 1849 C St. NW., NC400, Washington, DC 20240; by all other carriers, National Register of Historic Places, National Park Service, 800 N. Capitol St., NW., Suite 400, Washington DC 20002; or by fax, 202-343-1836. Written or faxed comments should be submitted by July 3, 2002.

Carol D. Shull,
Keeper of the National Register.

GEORGIA

Fulton County

Lakewood Heights Historic District, Jct. of Jonesboro Rd. and Lakewood Ave., Atlanta, 02000712

Harris County

Callaway, Cason and Virginia, House, 5929 GA 116, Hamilton, 02000713

Whitfield County

McCarty Subdivision Historic District, Thornton Place, Willow Park Dr., Sunset Cirtcle, and Walnut Ave., Dalton, 02000714

KANSAS

Doniphan County

Doniphan County Courthouse Square Historic District, Roughly bounded by E. Walnut, E Chestnut, S. Main, S. Liberty Sts., Troy, 02000717

Ellsworth County

Midland Hotel, 414 26th Ave., Wilson, 02000716

Leavenworth County

Arch Street Historic District, Roughly bounded by Arch, Pine, S. Second and S. Third Sts., Leavenworth, 02000718

North Broadway Historic District, Along N. Broadway bet. Seneca and Ottawa Sts., Leavenworth, 02000719

South Esplanade Historic District, Roughly bounded by Arch, Olive and S. Second Sts and RR, Leavenworth, 02000720

Third Avenue Historic District, Roughly bounded by 2nd and Aves. and Congress and Middle Sts, Leavenworth, 02000721

Union Park Historic District, Roughly bounded by Chestnut, Congress, S. 6th and W. 7th Sts., Leavenworth, 02000722

Shawnee County

Fire Station No. 2—Topeka, 719-723 Van Buren, Topeka, 02000715

MONTANA

Mineral County

Gildersleeve Mine, Lolo National Forest, Superior, 02000723

[FR Doc. 02-15231 Filed 6-17-02; 8:45 am]

BILLING CODE 4310-70-P